DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 29, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: May 24, 2017.
Roy E. Wright,
Deputy Associate Administrator for Insurance and Mitigation, Department of Homeland Security, Federal Emergency Management Agency.

I. Non-watershed-based studies:

Community | Community map repository address
Santa Cruz County, California and Incorporated Areas
Docket No.: FEMA-B-1557
City of Capitola | City Hall, 420 Capitola Avenue, Capitola, CA 95010.
City of Santa Cruz | City Hall, Planning Department: Permits, Building, Zoning, 809 Center Street, Room 206, Santa Cruz, CA 95060.
Unincorporated Areas of Santa Cruz County | County of Santa Cruz, Planning Department, 701 Ocean Street, 4th Floor, Santa Cruz, CA 95060.
Hawaii County, Hawaii
Docket No.: FEMA-B-1553
Hawaii County | Department of Public Works, Engineering Division, Aupuni Center, 101 Pauahi Street, Suite 7, Hilo, HI 96720; and Department of Public Works, Engineering Division, 74-5044 Ane Keohokalole Highway, Building D, 1st Floor, Kailua-Kona, HI 96740.
Kittson County, Minnesota and Incorporated Areas
Docket No.: FEMA-B-1281
City of Hallock | City Hall, 163 South 3rd Street, Hallock, MN 56728.
City of Humboldt | City Hall, 204 Ramsey Street, Humboldt, MN 56731.
City of Kennedy | City Office, 414 North Atlantic Avenue, Kennedy, MN 56733.
City of Lake Bronson | City Hall, 112 Main Street, Lake Bronson, MN 56734.
City of Lancaster | City Clerk Office, 100 2nd Street West, Lancaster, MN 56735.
City of St. Vincent | City Clerk, 421 Pacific Avenue, St. Vincent, MN 56755.
Unincorporated Areas of Kittson County | Kittson County Courthouse, 410 5th Street South, Suite 104, Hallock, MN 56728.

[FR Doc. 2017-13482 Filed 6-27-17; 8:45 am]

BILLING CODE 9110-12-P